ENVIRONMENTAL PROTECTION AGENCY

[EPA-HQ-OAR-2004-0073; FRL 9510-8]

Agency Information Collection Activities; Submission to OMB for Review and Approval; Comment Request; Requirements for Control Technology Determinations for Constructed and Reconstructed Major Sources of Hazardous Air Pollutants (Renewal)

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before February 22, 2012.

ADDRESSES: Submit your comments, referencing Docket ID No. EPA-HQ-OAR-2004-0073 to (1) EPA online using www.regulations.gov (our preferred method), or by email to a-and-r-docket@epa.gov, or by mail to: EPA Docket Center (EPA/DC), Environmental Protection Agency, Enforcement and Compliance Docket and Information Center, mail code 28221T, 1200 Pennsylvania Avenue NW., Washington, DC 20460, and (2) OMB at: Office of Information and Regulatory Affairs, Office of Management and Budget (OMB), Attention: Desk Officer for EPA, 725 17th Street NW., Washington, DC 20503.

FOR FURTHER INFORMATION CONTACT: Debra Dalcher, Office of Air and Radiation, Office of Air Quality Planning and Standards; Mail Code D243-04; Research Triangle Park, North Carolina 27711; telephone number (919) 541-2443; email address: dalcher.debra@epa.gov.

SUPPLEMENTARY INFORMATION: The EPA has submitted the following ICR to OMB for review and approval according to the procedures prescribed in 5 CFR 1320.12. On Friday, September 9, 2011, (76 FR 55905) the EPA sought comments on this ICR pursuant to 5 CFR 1320.8(d). The EPA received no comments. Any comments on this ICR should be submitted to the EPA and the OMB within 30 days of this notice.

The EPA has established a public docket for this ICR under Docket ID No. EPA-HQ-OAR-2004-0073, which is available for online viewing at www.regulations.gov, or in person viewing at the Air and Radiation Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is (202) 566-1744, and the telephone number for the Air and Radiation Docket Center is (202) 566-1742.

Use the EPA's electronic docket and comment system at www.regulations.gov, to submit or view public comments, access the index listing of the contents of the docket, and to access those documents in the docket that are available electronically. Once in the system, select “docket search,” then key in the docket ID number identified above. Please note that the EPA's policy is that public comments, whether submitted electronically or in paper, will be made available for public viewing at www.regulations.gov as the EPA receives them and without change, unless the comment contains copyrighted material, Confidential Business Information (CBI), or other information whose public disclosure is restricted by statute. For further information about the electronic docket, go to www.regulations.gov.

Title: Requirements for Control Technology Determinations for Constructed and Reconstructed Major Sources of Hazardous Air Pollutants (Renewal).

ICR Numbers: EPA ICR No. 1658.07, OMB Control No. 2060-0373.

ICR Status: This ICR is scheduled to expire on January 31, 2012. Under the OMB regulations, the Agency may continue to conduct or sponsor the collection of information while this submission is pending at the OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Section 112(g)(2)(B) of the Clean Air Act as amended in 1990 (CAA) requires that maximum achievable control technology (MACT) standards be met by constructed or reconstructed major sources of hazardous air pollutants (HAP). Where no applicable emission limit has been set, the MACT determination shall be made on a case-by-case basis. The source owner or operator must submit certain information to allow the permitting authority to perform a case-by-case MACT determination (40 CFR 63.43(e)). Permitting agencies, either State, local, Tribal or Federal, review information submitted and make case-by-case MACT determinations. Specific activities and requirements are listed and described in the Supporting Statement for the ICR.

Burden Statement: The annual public reporting and recordkeeping burden for this collection of information is estimated to average 132 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners or operators who construct or reconstruct major sources of hazardous air pollutants; State, local, and Tribal agencies with operating permit programs that have been approved by the EPA.

Estimated Number of Respondents: 8.

Frequency of Response: Once.

Estimated Total Annual Hour Burden: 529.

Estimated Total Annual Cost: $38,039, which includes $37,871 in labor costs and $168 in O&M Costs.

Changes in Estimate: There is a decrease of 5908 hours in the total estimated burden currently identified in the OMB Inventory of Approved ICR Burdens. The decrease in burden is due to the completion of setting MACT standards for the source category list. Therefore our revised estimate of burden is smaller than that estimated in the last ICR.

John Moses,
Director, Collection Strategies Division.

[FR Doc. 2012-1180 Filed 1-20-12; 8:45 am]

BILLING CODE 6560-50-P